DEPARTMENT OF AGRICULTURE

Submission for OMB Review; Comment Request

April 8, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: School Food Purchase Study—III.

OMB Control Number: 0584-0471.

Summary of Collection: To implement the requirements of Section 4307 of the Food, Conservation, and Energy Act of 2008 (Pub. L. 110-246), (H.R. 2419). The legislation directs the U.S. Department of Agriculture to carry out a nationally representative survey of the foods purchased by School Food Authorities (SFAs) during the most recent school year for which data is available. The study includes two separate components: (1) The collection of food purchase data from a sample of SFAs and (2) a survey of SFA food procurement practice. The results will contribute to better understanding of the purchasing behavior of the SFAs and to various factors that influence the efficiency of school meal provision.

Need and Use of the Information: The purpose of this data collection is to address five overall study objectives that will assist the Food and Nutrition Service and other USDA agencies involved in procurement and distribution of donated commodities and administering the National School Lunch Program and School Breakfast Program. In addition, the study will furnish the opportunity for schools to describe their food purchase practices so that information associated with food buying efficiency can be provided to other schools. If the study is not conducted, it would obstruct the agency's ability to measure the impact these changes are having on the costs of school meals and on child nutrition.

Description of Respondents: State, Local and Tribal Government.

Number of Respondents: 425.

Frequency of Responses: Reporting: On occasion.

Total Burden Hours: 5,313.

Ruth Brown,
Departmental Information Collection Clearance Officer.

[FR Doc. E9-8351 Filed 4-10-09; 8:45 am]

BILLING CODE 3410-30-P